DEPARTMENT OF AGRICULTURE

Food and Nutrition Service

7 CFR Parts 210, 215, 220, 225, 226, and 235

[FNS-2016-0040]

RIN 0584-AE08

Child Nutrition Program Integrity

AGENCY: Food and Nutrition Service (FNS), U.S. Department of Agriculture (USDA).

ACTION: Final rule; correction.

SUMMARY: The Food and Nutrition Service is correcting a final rule that appeared in the Federal Register on August 23, 2023. The document implements statutory requirements and policy improvements to strengthen administrative oversight and operational performance of the Child Nutrition Programs.

DATES: Effective September 22, 2023.

FOR FURTHER INFORMATION CONTACT: Megan Geiger, Senior Technical Advisor, Program Monitoring and Operational Support Division—4th floor, USDA Food and Nutrition Service, 1320 Braddock Place, Alexandria, VA 22314 or at megan.geiger@usda.gov.

SUPPLEMENTARY INFORMATION: In FR Doc. 2023-17992 appearing on page 57845 in the Federal Register of Wednesday, August 23, 2023, the following correction is made:

§ 210.18 [Corrected]

1. On page 57845, in the second column, instruction 6 for § 210.18, correct instruction b. to read as follows:

b. Revise paragraphs (c), (f), (g) introductory text, (h) introductory text, and (h)(1) introductory text;

Cynthia Long,
Administrator, Food and Nutrition Service.

[FR Doc. 2023-19878 Filed 9-15-23; 8:45 am]

BILLING CODE 3410-30-P